ENVIRONMENTAL PROTECTION AGENCY

[ER-FRL-6636-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-L65405-AK Rating NS, Shoreline Outfitter/Guide Plan, Commercial Permits Issuance for Shoreline-Based Activities on National Forest System Lands, Admiralty Island National Monument, Hoonah, Sitka and Juneau Ranger Districts, Tongass National Forest, AK.

Summary: EPA Region 10 used a screening tool to conduct a limited review of this action. Based on the screen, EPA does not foresee having major environmental objections to the proposed project. Therefore, EPA will not be conducting a detailed review.

ERP No. D-APH-A99222-00 Rating LO, Importation of Solid Wood Packing Material to Exclude, Eradicate and/or Control Invasive Alien Agricultural Pest, Implementation, United States.

Summary: EPA expressed no objection to the draft EIS and the Animal and Plant Health Inspection Service's (APHIS) proposal to adopt the International Plant Protection Convention (IPPC) “Guidelines for Regulating Wood Packaging Material in International Trade”.

ERP No. D-BLM-G65084-00 Rating LO, El Camino Real De Tierra Adentro National Historic Trail, Comprehensive Management Plan, Implementation, TX and NM.

Summary: EPA has no objection to the selection of the preferred alternative.

ERP No. D-BLM-L65402-OR Rating EC2, Cascade—Siskiyou National Monument (CSNM) Resource Management Plan, Implementation, Klamath and Rouge River Basins, Jackson County, OR.

Summary: EPA expressed environmental concerns that the draft EIS lacked sufficient information related to: the Purpose and Need Statement, Tribal consultation and coordination efforts, livestock grazing impacts, habitat connectivity, CWA section 303(d) Protocols, and indirect or cumulative effects and should be addressed in the final EIS.

ERP No. D-DOE-K08024-CA Rating EC2, Sacramento Area Voltage Support Project, System Reliability and Voltage Support Improvements, Sierra Nevada Region, Alameda, Contra Costa, Placer, Sacramento, San Joaquin and Sutter Counties, CA.

Summary: EPA has environmental concerns about impacts to air quality, water resources and with the scope of the cumulative impacts analysis. EPA urged Western Area Power Administration to commit to follow-up environmental analysis, a discription and evaluation of the funding process, and how funding and project cost will be integrated with the environmental analysis.

ERP No. D-FHW-B40092-NH Rating EO2, I-93 Highway Improvements, Salem to Manchester, Funding, NPDES and U.S. Army COE Section 404 Permits Issuance, Hillsborough and Rockingham Counties, NH.

Summary: EPA expressed environmental objections to impacts to the aquatic environment which should be addressed through additional analysis, mitigation and other commitments in the FEIS. Specifically, EPA recommends that risks to surface and ground waters from road salt and air quality impacts be addressed in greater detail. Mitigation plans should also be enhanced in addition to the inclusion of more information regarding commuter bus and high occupancy vehicle services in the project plans.

ERP No. DS-FHW-F40118-MI Rating EC2, US-31 Freeway Connection, Napier Road to I-94, Updated Information concerning Transportation Improvements, Berrien County, MI.

Summary: EPA expressed environmental concerns regarding project impacts to wetlands and wildlife connectivity.

Additional information regarding wetlands minimization and mitigation measures should be included in the final EIS.

ERP No. DS-FTA-E40777-FL Rating EC2, Miami-Miami Beach (Bay Link) Transportation Corridor Study, Transportation Improvements Connecting Government Center and Downtown Miami Beach Convention Center, Dade County, FL.

Summary: EPA expressed environmental concerns regarding social impacts, noise exposure, and aquatic resource impacts and recommends minimization or mitigation of these impacts.

Final EISs

ERP No. F-AFS-L65400-ID, The West Gold Creek Project, Forest Management Activities Plan, Implementation, Idaho Panhandle National Forests, Sandpoints Ranger District, Bonner County, ID.

Summary: No formal comment letter was sent to the preparing agency.

ERP No. F-BLM-L03012-AK, Renewal of Federal Grant for the Trans-Alaska Pipeline System, Right-of-Way Grant and Approvals, AK.

Summary: No formal comment letter was sent to the preparing agency.

ERP No. F-BLM-L60107-OR, Coos County Natural Gas Transmission Pipeline Construction, Operation and Maintenance, Roseburg to Coos Bay, Right-of-Way Grant, Coos Bay District, Coos County, OR.

Summary: No formal comment letter was sent to the preparing agency.

ERP No. F-FHW-C40151-NY, County Road (Mill Hill Road and Glen Road) Improvements, Howard Drive to NY-9N including a New Bridge over the East Branch of the Ausable River, Funding and U.S. Army COE Section 404 Permit Issuance, Essex County, NY.

Summary: EPA continued to express environmental concerns with the project's cumulative impacts and impacts to wetlands.

ERP No. F-FTA-K59002-AZ, Central Phoenix/East Valley Light Rail Transit Corridor Construction, Operation and Maintenance, Funding, Cities of Phoenix, Tempe and Mesa, Maricopa County, AZ.

Summary: No formal comment letter was sent to the preparing agency.

ERP No. F-SFW-K70008-AZ, Roosevelt Habitat Conservation Plan, Issuance of an Incidental Take Permit to Allow Continued Operation of Roosevelt Dam and Lake, Implementation, Gila and Maricopa Counties, AZ.

Summary: No formal comment letter was sent to the preparing agency.

Dated: January 13, 2003.
Joseph C. Montgomery,
Director, NEPA Compliance Division, Office of Federal Activities.

[FR Doc. 03-1048 Filed 1-16-03; 8:45 am]

BILLING CODE 6560-50-P